DEPARTMENT OF HEALTH AND HUMAN SERVICES

Health Care Financing Administration

[HCFA-1144-N]

Medicare Program; Announcement of a Series of Regional Training Sessions To Provide Training to Medicare+Choice Organization Physicians, Medicare+Choice Organization Non-Physician Practitioners, and Medicare+Choice Organization Medicare Directors, As Well As Physician Organizations and Billing Associations Involved in the Timely and Accurate Submission of Physician Encounter Data To Support a Comprehensive Risk Adjustment Model

AGENCY: Health Care Financing Administration (HCFA), HHS.

ACTION: Notice of training sessions.

SUMMARY: This notice announces a series of regional training sessions to provide an opportunity for Medicare+Choice Organization (M+CO) physicians, M+CO non-physician practitioners, and M+CO medical directors, as well as physician organizations, billing associations, and other interested parties, to obtain information on the requirements placed on M+COs for submission of physician encounter data collection. HCFA and the Restuccio Healthcare Group will provide the physician encounter data training.

Regional Training Dates & Cities

The regional training sessions will be held as follows:

Physician Encounter Data Training Schedule 2000
Date | Location
August 23, 2000, Palo Alto, CA | Hyatt Rickeys, 4219 El Camino Real, Palo Alto, CA 94306-4493, (650) 493-8000.
August 29, 2000, Philadelphia, PA | Park Hyatt Philadelphia at the Bellevue, Broad and Walnuts Streets, Philadelphia, PA 19102, (215) 893-1234.
September 7, 2000, Chicago, IL | Hyatt Regency Woodfield, 1800 East Golf Road, Schaumburg, IL 60173, (847) 605-1234.
September 13, 2000, Tampa, FL | Hyatt Regency Westshore on Tampa Bay, 6200 Courtney Campbell Causeway, Tampa, FL 33607, (813) 874-1234.
September 20, 2000, San Diego, CA | San Diego Marriott Hotel and Marina, 333 West Harbor Drive, San Diego, CA 32101-7700, (619) 234-1500.

FOR FURTHER INFORMATION CONTACT: Marcy Perkins, Restuccio Healthcare Group, Encounter Data Representative, (901) 385-0123 (telephone); (901) 385-1821 (fax); or e-mail us with your questions at encounterdata@ritecode.com. Information is also available on our homepage at http://www.hcfa.gov/events.

SUPPLEMENTARY INFORMATION:

Background

The Balanced Budget Act of 1997 (BBA) (Public Law 105-33) established the Medicare+Choice (M+C) program. Under the BBA, we must implement a risk adjustment methodology that accounts for variations in per capita costs based on health status and other demographic factors for payment to M+C organizations (M+COs). Risk adjustment implementation began January 1, 2000.

The BBA gives us the authority to collect inpatient hospital data for discharges on or after July 1, 1997, and additional data for services occurring on or after July 1, 1998. Pending OMB approval, M+COs must submit physician encounter data beginning October 1, 2000.

The agenda for the half-day training sessions will include the following topics:

•; Overview of comprehensive risk adjustment models and implementation timeline.

• Review of M+C National Standard Format (M+C NSF).

• Coding tips and resources for obtaining additional coding information.

• Data requirements for physician encounter data.

• Question-and-answer period.

Registration

Registration for these training sessions is required and will be on a first-come, first-served basis, limited to two attendees per organization. A waiting list will be available for additional requests. Registration can be accomplished via the Internet at http:/­/www.hcfa.gov/events or by completing a paper form available at the aforementioned Internet address. A confirmation notice will be sent to attendees upon finalization of registration.

Attendees will be provided with training materials at the time of the training session. There will be two training sessions per day. The morning session will be from 8:30 a.m. to 11:30 a.m.; the afternoon session will be from 1:30 p.m. to 4:30 p.m. Individuals can attend only one session (either morning or afternoon).

Authority: Sections 1851 through 1859 of the Social Security Act (42 U.S.C. 1395w-21 through 1395w-28).

(Catalog of Federal Domestic Assistance Program No. 93.773, Medicare—Hospital Insurance; and Program No. 93.774, Medicare—Supplementary Medical Insurance Program)
Dated: July 25, 2000.
Nancy-Ann Min DeParle,
Administrator, Health Care Financing Administration.

[FR Doc. 00-19158 Filed 7-27-00; 8:45 am]

BILLING CODE 4120-01-P